NATIONAL SCIENCE FOUNDATION

Special Emphasis Panel in Chemistry; Notice of Meetings

This notice is being published in accord with the Federal Advisory Committee Act (Pub. L. 92-463, as amended). During the period November 13 through November 29, the Special Emphasis Panel in the Division of Chemistry (1191) will be holding panel meetings to review and evaluate research proposals. The dates and types of proposals being reviewed are:

Dates of meetings | Types of proposal
11/13/00 11/14/00 | Physical Chemistry (Career).
11/13/00 11/14-15/00 | Inorganic Chemistry (Career).
11/16/00 11/17/00 | Analytical and Surface Chemistry (Career).
11/27/00 11/28-29/00 | Organic and Macromolecular Chemistry (Career).

Times: 8:30 to 5:00 p.m. each day.

Place: National Science Foundation, 4201 Wilson Blvd., Arlington, VA.

Type of Meetings: Closed.

Contact Person: Dr. Janice Hicks, Program Officer, Experimental Physical Chemistry, Room 1055, National Science Foundation, 4201 Wilson Blvd., Arlington, VA 22230, telephone (703) 292-4956.

Purpose of Meetings: To provide advice and recommendations concerning proposals submitted to NSF for financial support.

Agenda: To review and evaluate proposals submitted to the Division of Chemistry as part of the selection process for awards.

Reason for Closing: The proposals being reviewed include information of a proprietary or confidential nature, including technical information; financial data, such as salaries, and personal information concerning individuals associated with the proposals. These matters are exempt under 5 U.S.C. 552b(c) (4) and (6) of the Government in the Sunshine Act.

Dated: October 3, 2000.
Karen J. York,
Committee Management Officer.

[FR Doc. 00-25822 Filed 10-6-00; 8:45 am]

BILLING CODE 7555-01-M